DEPARTMENT OF THE INTERIOR

National Park Service

[NPS-WASO-VRP-REGS-20188, PPWOVPAU0, PPMPSPD1Y.M0000 (166)]

Proposed Information Collection; Special Park Use Applications

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on August 31, 2016. We may not conduct or sponsor, and a person is not required to respond to, a collection of information unless it displays a currently valid OMB control number.

DATES: To ensure we are able to consider your comments, we must receive them on or before April 4, 2016.

ADDRESSES: Please send your comments on the ICR to Madonna L. Baucum, Information Collection Clearance Officer, National Park Service, 12201 Sunrise Valley Drive, Room 2C114—Mail Stop 242, Reston, VA 20192 (mail); or madonna_baucum@nps.gov (email). Please reference “OMB Control Number 1024-0026, Special Park Use Applications” in the subject line of your comments.

FOR FURTHER INFORMATION CONTACT: Lee Dickinson, Special Park Uses National Manager, 1849 C St. NW. (2465), Washington, DC 20240; via fax at (202) 208-4178; or via email at lee_dickinson@nps.gov.

SUPPLEMENTARY INFORMATION:

I. Abstract

Under 54 U.S.C. 100101 (National Park Service Act Organic Act), we must preserve America's natural wonders unimpaired for future generations, while also making them available for the enjoyment of the visitor. Meeting this mandate requires that we balance preservation with use. Maintaining a good balance requires both information and limits. In accordance with regulations at 36 CFR parts 1 through 7, 13, 20, and 34, we issue permits for special park uses. Special park uses cover a wide range of activities including, but not limited to, special events, First Amendment activities, grazing and agricultural use, commercial filming, still photography, construction, and vehicle access.

We currently use the below listed forms to collect information for special use permits.

• 10-930 (Application for Special Use Permit),

• 10-930S (Application for Special Use Permit (short form)). The short form will reduce the burden on applicants for smaller, less complicated activities, such as small picnics, gatherings, weddings, etc.

• 10-931 (Application for Commercial Filming/Still Photography Permit (short form)),

• 10-932 (Application for Commercial Filming/Still Photography Permit (long form)) to collect information for special use permits.

• Form 10-933 (Application for Vehicle Use). This new form applies specifically to vehicle access such as off-road, over-sand, or commercial vehicle access, as well as snow mobile and watercraft. We will only request information specific to the activity eliminating unneeded information.

The information we collect in the special use applications allows park managers to determine if the requested use is consistent with the laws and NPS regulations referenced above and with the public interest. The park manager must also determine that the requested activity will not cause unacceptable impacts to park resources and values.

II. Data

OMB Control Number: 1024-0026.

Title: Special Park Use Applications (Portions of 36 CFR 1 through 7, 13, 20, 34).

Form Numbers: NPS Forms 10-930, 10-930S, 10-931, 10-932, and 10-933.

Type of Request: Extension of a currently approved collection of information.

Description of Respondents: Individuals or households; not-for-profit entities; businesses or other for-profit entities; and Federal, State, local and tribal governments.

Respondent's Obligation: Required to obtain or retain a benefit.

Frequency of Collection: On occasion.

Activity | Number of respondents | Number of responses | Completion time per response | Total annual burden hours
Form 10-930:
Individuals | 5,000 | 5,000 | .5 | 2,500
Private Sector | 4,000 | 4,000 | .5 | 2,000
Government | 500 | 500 | .5 | 250
Form 10-930s:
Individuals | 4,000 | 4,000 | .25 | 1,000
Private Sector | 1,000 | 1,000 | .25 | 250
Government | 200 | 200 | .25 | 50
Form 10-931:
Individuals | 600 | 600 | .25 | 150
Private Sector | 2,000 | 2,000 | .25 | 500
Government | 55 | 55 | .25 | 14
Form 10-932:
Individuals | 50 | 50 | .5 | 25
Private Sector | 660 | 660 | .5 | 330
Government | 50 | 50 | .5 | 25
Form 10-933:
Individuals | 20,000 | 20,000 | .25 | 5,000
Private Sector | 300 | 300 | .25 | 75
Government | 50 | 50 | .25 | 13
Totals | 38,465 | 38,465 |  | 12,182

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: January 28, 2016.
Madonna L. Baucum,
Information Collection Clearance Officer, National Park Service.

[FR Doc. 2016-02056 Filed 2-2-16; 8:45 am]

BILLING CODE 4310-70-P